DEPARTMENT OF HOMELAND SECURITY

Federal Emergency Management Agency

[Docket ID FEMA-2016-0002; Internal Agency Docket No. FEMA-B-1605]

Changes in Flood Hazard Determinations

AGENCY: Federal Emergency M2666anagement Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: March 4, 2016.
Roy E. Wright,
Deputy Associate Administrator for Insurance and Mitigation, Department of Homeland Security, Federal Emergency Management Agency.

State and county | Location and case No. | Chief executive officer of community | Community map repository | Online location of letter of map revision | Effective date of modification | Community No.
Arkansas:
Crawford | City of Alma (14-06-2666P) | The Honorable Keith Greene, Mayor, City of Alma, 804 Fayetteville Avenue, Alma, AR 72921 | Water Department, 804 Fayetteville Avenue, Alma, AR 72921 | http://www.msc.fema.gov/lomc | May 13, 2016 | 050236
Crawford | Unincorporated areas of Crawford County (14-06-2666P) | The Honorable John Hall, Crawford County Judge, 300 Main Street, Room 4, Van Buren, AR 72956 | Crawford County, Department of Emergency Management, 1820 Chestnut Street, Van Buren, AR 72956 | http://www.msc.fema.gov/lomc | May 13, 2016 | 050428
Colorado:
Boulder | City of Boulder (16-08-0051P) | The Honorable Suzanne Jones, Mayor, City of Boulder, P.O. Box 791, Boulder, CO 80306 | Planning and Development Services Department, 1739 Broadway Street, Boulder, CO 80302 | http://www.msc.fema.gov/lomc | Apr. 26, 2016 | 080024
Weld | Town of Milliken (15-08-0943P) | The Honorable Milt Tokunaga, 1101 Broad Street, Milliken, CO 80543 | Town Hall, 1101 Broad Street, Milliken, CO 80543 | http://www.msc.fema.gov/lomc | May 4, 2016 | 080187
Weld | Unincorporated areas of Weld County (15-08-0943P) | The Honorable Barbara Kirkmeyer, Chair, Weld County Board of Commissioners, P.O. Box 758, Greeley, CO 80632 | Weld County Planning and Zoning Department 1555 North 17th Avenue Greeley, CO 80631 | http://www.msc.fema.gov/lomc | May 4, 2016 | 080266
Weld | Unincorporated areas of Weld County (15-08-1446P) | The Honorable Barbara Kirkmeyer, Chair, Weld County Board of Commissioners, P.O. Box 758, Greeley, CO 80632 | Weld County Planning and Zoning Department, 1555 North 17th Avenue, Greeley, CO 80631 | http://www.msc.fema.gov/lomc | May 13, 2016 | 080266
Delaware: New Castle | Unincorporated areas of New Castle County (15-03-2443P) | The Honorable Thomas P. Gordon, New Castle County Executive, 87 Reads Way, New Castle, DE 19720 | New Castle County Land Use Department, 87 Reads Way, New Castle, DE 19720 | http://www.msc.fema.gov/lomc | May 11, 2016 | 105085
Florida:
Brevard | City of Indian Harbor Beach (15-04-1302P) | The Honorable David Panicola, Mayor, City of Indian Harbor Beach, 2055 South Patrick Drive, Indian Harbour Beach, FL 32937 | City Hall, 2055 South Patrick Drive, Indian Harbour Beach, FL 32937 | http://www.msc.fema.gov/lomc | Apr. 28, 2016 | 125116
Broward | City of Pompano Beach (15-04-7209P) | The Honorable Lamar Fisher, Mayor, City of Pompano Beach, 100 West Atlantic Boulevard, Pompano Beach, FL 33060 | Building Inspections Department, 100 West Atlantic Boulevard, Pompano Beach, FL 33060 | http://www.msc.fema.gov/lomc | May 5, 2016 | 120055
Lee | Unincorporated areas of Lee County (15-04-7181P) | The Honorable Frank Mann, Chairman, Lee County Board of Commissioners, District 5, P.O. Box 398, Fort Myers, FL 33902 | Lee County Community Development Department, 1500 Monroe Street, Fort Myers, FL 33901 | http://www.msc.fema.gov/lomc | May 4, 2016 | 125124
Lee | Unincorporated areas of Lee County (16-04-0292P) | The Honorable Frank Mann, Chairman, Lee County Board of Commissioners, District 5, P.O. Box 398, Fort Myers, FL 33902 | Lee County Community Development Department, 1500 Monroe Street, Fort Myers, FL 33901. | http://www.msc.fema.gov/lomc | May 11, 2016 | 125124
Miami-Dade | City of Miami (15-04-A406P) | The Honorable Tomás P. Regalado, Mayor, City of Miami, 3500 Pan American Drive, Miami, FL 33133 | Building Department, 444 Southwest 2nd Avenue, Miami, FL 33130 | http://www.msc.fema.gov/lomc | Apr. 4, 2016 | 120650
Miami-Dade | City of Sunny Isles Beach (15-04-8034P) | The Honorable George “Bud” Scholl, Mayor, City of Sunny Isles Beach, 18070 Collins Avenue, Sunny Isles Beach, FL 33160 | Building Department, 18070 Collins Avenue, Sunny Isles Beach, FL 33160. | http://www.msc.fema.gov/lomc | Apr. 26, 2016 | 120688
Seminole | City of Longwood (15-04-9353P) | The Honorable Joe Durso, Mayor, City of Longwood, 175 West Warren Avenue, Longwood, FL 32750 | Community Development Division, 174 West Church Avenue, Longwood, FL 32750 | http://www.msc.fema.gov/lomc | May 6, 2016 | 120292
Georgia:
Columbia | Unincorporated areas of Columbia County (15-04-7397P) | The Honorable Ron C. Cross, Chairman, Columbia County Board of Commissioners, P.O. Box 498 Evans, GA 30809 | Columbia County, Engineering Services Department, 630 Ronald Reagan Drive, Building A, East Wing, Evans, GA 30809 | http://www.msc.fema.gov/lomc | Mar. 31, 2016 | 130059
Columbia | Unincorporated areas of Columbia County (15-04-A572P) | The Honorable Ron C. Cross, Chairman, Columbia County Board of Commissioners, P.O. Box 498, Evans, GA 30809 | Columbia County, Engineering Services Department, 630 Ronald Reagan Drive, Building A, East Wing, Evans, GA 30809 | http://www.msc.fema.gov/lomc | May 6, 2016 | 130059
Lee | City of Leesburg (15-04-3743P) | The Honorable Jim Quinn, Mayor, City of Leesburg, P.O. Box 890, Leesburg, GA 31763 | City Hall, 107 Walnut Avenue, South Leesburg, GA 31763 | http://www.msc.fema.gov/lomc | Apr. 21, 2016 | 130348
Lee | Unincorporated areas of Lee County (15-04-3743P) | The Honorable Rick Muggridge, Chairman, Lee County Board of Commissioners, 110 Starksville Avenue, North Leesburg, GA 31763 | Lee County, Administration Building, 110 Starksville Avenue, North Leesburg, GA 31763 | http://www.msc.fema.gov/lomc | Apr. 21, 2016 | 130122
Massachusetts:
Plymouth | Town of Lakeville (15-01-2489P) | The Honorable Aaron Burke, Chairman, Town of Lakeville Board of Selectmen, 346 Bedford Street, Lakeville, MA 02347 | Town Hall, 346 Bedford Street, Lakeville, MA 02347 | http://www.msc.fema.gov/lomc | Mar. 25, 2016 | 250271
Plymouth | Town of Middleborough (15-01-2489P) | The Honorable Allin Frawley, Chairman, Town of Middleborough Board of Selectmen, 10 Nickerson Avenue, Middleborough, MA 02346 | Planning Department, Town Hall Annex, 20 Centre Street, Middleborough, MA 02346 | http://www.msc.fema.gov/lomc | Mar. 25, 2016 | 250275
Plymouth | Town of Rochester (15-01-2489P) | The Honorable Richard D. Nunes, Chairman, Town of Rochester Board of Selectmen, 1 Constitution Way, Rochester, MA 02770 | Town Hall Annex, 37 Marion Road, Rochester, MA 02770 | http://www.msc.fema.gov/lomc | Mar. 25, 2016 | 250280
Nevada: Clark | City of Henderson (15-09-3020P) | The Honorable Andy Hafen, Mayor, City of Henderson, P.O. Box 95050, MSC 142, Henderson, NV 89009 | Department of Public Works, Parks and Recreation, P.O. Box 95050, MSC 131, Henderson, NV 89009 | http://www.msc.fema.gov/lomc | Apr. 8, 2016 | 320005
Ohio:
Franklin | City of Columbus (15-05-3155P) | The Honorable Michael B. Coleman, Mayor, City of Columbus, 90 West Broad Street, 2nd Floor, Columbus, OH 43215 | City Hall, 1250 Fairwood Avenue, Columbus, OH 43206 | http://www.msc.fema.gov/lomc | Apr. 20, 2016 | 390170
Franklin | City of Grandview Heights (15-05-3155P) | The Honorable Ray DeGraw, Mayor, City of Grandview Heights, 1016 Grandview Avenue, Grandview Heights, OH 43212 | City Hall, 1016 Grandview Avenue, Grandview Heights, OH 43212 | http://www.msc.fema.gov/lomc | Apr. 20, 2016 | 390172
Oklahoma:
Oklahoma | City of Oklahoma City (15-06-0551P) | The Honorable Mick Cornett, Mayor, City of Oklahoma City, 200 North Walker, 3rd Floor, Oklahoma City, OK 73102 | Planning Department, 420 West Main, 9th Floor, Oklahoma City, OK 73102 | http://www.msc.fema.gov/lomc | May 4, 2016 | 405378
Oklahoma | City of Oklahoma City (15-06-3108P) | The Honorable Mick Cornett, Mayor, City of Oklahoma City, 200 North Walker, 3rd Floor, Oklahoma City, OK 73102 | Planning Department, 420 West Main, 9th Floor, Oklahoma City, OK 73102 | http://www.msc.fema.gov/lomc | Apr. 26, 2016 | 405378
Oklahoma | Unincorporated areas of Oklahoma County (15-06-3108P) | The Honorable Ray Vaughn, Oklahoma County Commissioner, District 3, 320 Robert S. Kerr Avenue, Suite 621, Oklahoma City, OK 73102 | Oklahoma County Planning Department, 320 Robert S. Kerr Avenue, Suite 101, Oklahoma City, OK 73102 | http://www.msc.fema.gov/lomc | Apr. 26, 2016 | 400466
Tulsa | City of Tulsa (15-06-0947P) | The Honorable Dewey Bartlett, Jr., Mayor, City of Tulsa, 175 East 2nd Street, Tulsa, OK 74103 | Development Services Department, Tulsa, OK 74103 | http://www.msc.fema.gov/lomc | Apr. 15, 2016 | 405381
Pennsylvania:
Chester | Township of Caln (15-03-1479P) | The Honorable John Contento, President, Township of Caln Board of Commissioners, 253 Municipal Drive, Thorndale, PA 19372 | Township Municipality Building, 253 Municipal Drive, Thorndale, PA 19372 | http://www.msc.fema.gov/lomc | Apr. 26, 2016 | 422247
Chester | Borough of Downingtown (15-03-1479P) | The Honorable Joshua Maxwell, Mayor, Borough of Downingtown, 4 West Lancaster Avenue, Downingtown, PA 19335 | Borough Hall, 4 West Lancaster Avenue, Downingtown, PA 19335 | http://www.msc.fema.gov/lomc | Apr. 26, 2016 | 420275
Delaware | Township of Haverford (15-03-2347P) | The Honorable Lawrence J. Gentile, Manager, Township of Haverford, 2325 Darby Road, Havertown, PA 19083 | Department of Community Development, 2325 Darby Road, Havertown, PA 19083 | http://www.msc.fema.gov/lomc | Mar. 14, 2016 | 420417
Lebanon | Township of Heidelberg (15-03-0736P) | The Honorable Paul Fetter, Chairman, Township of Heidelberg Board of Supervisors, 111 Mill Road, Schaefferstown, PA 17088 | Township Hall, 111 Mill Road, Schaefferstown, PA 17088 | http://www.msc.fema.gov/lomc | Jun. 16, 2016 | 420969
Lebanon | Township of Millcreek (15-03-0736P) | The Honorable Donald R. Leibig, Chairman, Township of Millcreek Board of Supervisors, 81 East Alumni Avenue, Newmanstown, PA 17073 | Planning and Zoning Department, 400 South 8th Street, Newmanstown, PA 17042 | http://www.msc.fema.gov/lomc | Jun. 16, 2016 | 420574
South Carolina:
Charleston | Town of Mount Pleasant (15-04-A378P) | The Honorable Linda Page, Mayor, Town of Mount Pleasant, 100 Ann Edwards Lane, Mount Pleasant, SC 29464 | Planning and Development Department, 100 Ann Edwards Lane, Mount Pleasant, SC 29464 | http://www.msc.fema.gov/lomc | May 11, 2016 | 455417
Charleston | Unincorporated areas of Charleston County (15-04-A378P) | The Honorable J. Elliott Summey, Chairman, Charleston County Board of Commissioners, 4045 Bridgeview Drive, Suite B254, North Charleston, SC 29405 | Charleston County Building, Inspection Services Department, 4045 Bridgeview Drive, Suite A311, North Charleston, SC 29405 | http://www.msc.fema.gov/lomc | May 11, 2016 | 455413
Greenville | Unincorporated areas of Greenville County (15-04-5639P) | The Honorable Bob Taylor, Chairman, Greenville County Council, 301 University Ridge, Suite 2400, Greenville, SC 29601 | Greenville County, Planning and Code Compliance Department, 301 University Ridge, Suite 4100, Greenville, SC 29601 | http://www.msc.fema.gov/lomc | Mar. 18, 2016 | 450089
Lexington | Unincorporated areas of Lexington County (15-04-7104P) | The Honorable Johnny W. Jeffcoat, Chairman, Lexington County Board of Commissioners, 212 South Lake Drive, Suite 601, Lexington, SC 29072 | Lexington County, Planning Department, 212 South Lake Drive, Suite 302, Lexington, SC 29072 | http://www.msc.fema.gov/lomc | Apr. 29, 2016 | 450129
York | City of Rock Hill (15-04-2163P) | The Honorable Doug Echols, Mayor, City of Rock Hill, 155 Johnston Street, Suite 210, Rock Hill, SC 29730 | City Hall, 155 Johnston Street, Suite 300, Rock Hill, SC 29730 | http://www.msc.fema.gov/lomc | Mar. 29, 2016 | 450196
York | Unincorporated areas of York County (15-04-2163P) | The Honorable J. Britt Blackwell, Chairman, York County Council, 6 South Congress Street, York, SC 29745 | York County, Heckle Complex, 1070 Heckle Boulevard, Suite 107, York, SC 29732 | http://www.msc.fema.gov/lomc | Mar. 29, 2016 | 450193
Tennessee:
Fayette | Town of Oakland (15-04-9364P) | The Honorable Chris Goodman, Mayor, Town of Oakland, P.O. Box 56, Oakland, TN 38060 | Building Department, 75 Clay Street, Oakland, TN 38060 | http://www.msc.fema.gov/lomc | Mar. 31, 2016 | 470418
Fayette | Unincorporated areas of Fayette County (15-04-9364P) | The Honorable Rhea, Taylor Mayor, Fayette County, P.O. Box 218, Somerville, TN 38068 | Fayette County, Planning and Development Department, 16265 U.S. Highway 64, Somerville, TN 38068 | http://www.msc.fema.gov/lomc | Mar. 31, 2016 | 470352
Texas:
Bell | City of Belton (15-06-2989P) | The Honorable Marion Grayson, Mayor, City of Belton, P.O. Box 120, Belton, TX 76513 | City Hall, 333 Water Street, Belton, TX 76513 | http://www.msc.fema.gov/lomc | Apr. 29, 2016 | 480028
Bexar | Unincorporated areas of Bexar County (15-06-1291P) | The Honorable Nelson W. Wolff, Bexar County Judge, Paul Elizondo Tower, 101 West Nueva Street, 10th Floor, San Antonio, TX 78205 | Bexar County, Public Works Department, 233 North Pecos-La Trinidad Street, Suite 420, San Antonio, TX 78207 | http://www.msc.fema.gov/lomc | Mar. 30, 2016 | 480035
Cooke | City of Gainesville (14-06-4582P) | The Honorable Jim Goldsworthy, Mayor, City of Gainesville, 200 South Rusk Street, Gainesville, TX 76240 | Community Services Department, 104 West Hird Street, Gainesville, TX 76240 | http://www.msc.fema.gov/lomc | Apr. 27, 2016 | 480154
Dallas | City of Carrollton (15-06-4000P) | The Honorable Matthew, Marchant Mayor, City of Carrollton, 1945 East Jackson Road, Carrollton, TX 75006 | Engineering Department, 1945 East Jackson Road, Carrollton, TX 75006 | http://www.msc.fema.gov/lomc | Apr. 18, 2016 | 480167
Dallas | City of Irving (15-06-1807P) | The Honorable Beth Van Duyne, Mayor, City of Irving, 825 West Irving Boulevard, Irving, TX 75060. | Capital Improvement Program Department, Engineering Section, 825 West Irving Boulevard, Irving, TX 75060. | http://www.msc.fema.gov/lomc | May 16, 2016 | 480180
Kaufman | City of Terrell (15-06-2277P) | The Honorable Hal Richards, Mayor, City of Terrell, 201 East Nash Street, Terrell, TX 75160 | Engineering Department, 201 East Nash Street, Terrell, TX 75160 | http://www.msc.fema.gov/lomc | Apr. 1, 2016 | 480416
Kaufman | Unincorporated areas of Kaufman County (15-06-2277P) | The Honorable Bruce Wood, Kaufman, County Judge, 100 West Mulberry, Kaufman, TX 75142 | Kaufman County, Public Works Department, 3003 South Washington, Kaufman, TX 75142. | http://www.msc.fema.gov/lomc | Apr. 1, 2016 | 480411
Montgomery | Unincorporated areas of Montgomery County (15-06-2891P) | The Honorable Craig B. Doyal, Montgomery County Judge, 501 North Thompson, Suite 401, Conroe, TX 77301 | Montgomery County, Permitting Department, 501 North Thompson, Suite 100, Conroe, TX 77301 | http://www.msc.fema.gov/lomc | May 13, 2016 | 480483
Waller and Harris | City of Katy (15-06-1824P) | The Honorable Fabol R. Hughes, Mayor, City of Katy, P.O. Box 617, Katy, TX 77493 | City Hall, 910 Avenue C, Katy, TX 77493 | http://www.msc.fema.gov/lomc | Apr. 22, 2016 | 480301
Williamson | City of Cedar Park (15-06-3037P) | The Honorable Matthew Powell, Mayor, City of Cedar Park, 450 Cypress Creek Road, Cedar Park, TX 78613 | Public Works Department, 2401 Brushy Creek Loop, Cedar Park, TX 78613 | http://www.msc.fema.gov/lomc | Mar. 31, 2016 | 481282
Williamson | Unincorporated areas of Williamson County (15-06-3037P) | The Honorable Dan A. Gattis, Williamson County Judge, 710 South Main Street, Suite 101, Georgetown, TX 78626 | Williamson County, Engineer's Office, 3151 Southeast Inner Loop, Suite B, Georgetown, TX 78626 | http://www.msc.fema.gov/lomc | Mar. 31, 2016 | 481079
Virginia:
Fauquier | Unincorporated areas of Fauquier County (15-03-1168P) | The Honorable Chester W. Stribling, Chairman, Fauquier County, Board of Supervisors, 10 Hotel Street, Suite 208, Warrenton, VA 20186 | Fauquier County, Department of Community Development, 29 Ashby Street, Suite 310, Warrenton, VA 20186 | http://www.msc.fema.gov/lomc | Apr. 28, 2016 | 510055
Montgomery | Unincorporated areas of Montgomery County (14-03-0497P) | The Honorable Bill Brown, Chairman, Montgomery County Board of Supervisors, 755 Roanoke Street, Suite 2E, Christiansburg, VA 24073 | Montgomery County, Planning Department, 755 Roanoke Street, Suite 2A, Christiansburg, VA 24073 | http://www.msc.fema.gov/lomc | May 5, 2016 | 510099

[FR Doc. 2016-07080 Filed 3-28-16; 8:45 am]

BILLING CODE 9110-12-P